FEDERAL COMMUNICATIONS COMMISSION

[ET Docket No. 03-104 and ET Docket No. 04-37; DA 05-2701]

Broadband Power Line Systems

AGENCY: Federal Communications Commission.

ACTION: Notice.

SUMMARY: The Office of Engineering and Technology (OET) announces that the United Telecom Council (UTC) will serve as the Access Broadband over Power Line (Access BPL) database manager.

DATES: Effective November 19, 2005.

FOR FURTHER INFORMATION CONTACT: Anh Wride, Office of Engineering and Technology, (202) 418-0577, e-mail: Anh.Wride@fcc.gov, TTY (202) 418-2989.

SUPPLEMENTARY INFORMATION: 1. By Public Notice dated October 13, 2005, DA 05-2701, the Office of Engineering and Technology (OET) announces that the United Telecom Council (UTC) will serve as the Access Broadband over Power Line (Access BPL) database manager, pursuant to § 15.615 (a) through (e) of the Commission's rules, effective immediately. Access BPL systems will be required to comply with the requirements of § 15.615 by November 19, 2005.

2. On October 14, 2004, the Commission adopted a Report and Order, amending part 15 of the rules to establish specific interference mitigation requirements for Access BPL systems. (Report and Order in ET Docket Nos. 04-37 and 03-104 (19 FCC Rcd 21265 (2004)), 70 FR 1360, January 7, 2005. In conjunction with those requirements, the Commission required that the BPL industry establish a centralized publicly accessible Access BPL notification database, run by an administrator to be selected by the BPL industry, and that Access BPL operators submit certain information regarding their systems into that database.

3. On May 17, 2005, the UTC submitted a letter notifying the Commission that it has designed and implemented a database that will enable Access BPL operators to comply with the notification requirements of § 15.615 (a) through (e) of the Commission's rules, and included a petition in support signed by thirty-five Access BPL companies. (DA 05-1637, released June 9, 2005.)

4. On September 15, 2005, the Office of Management and Budget (OMB) approved the information collection requirements contained in 47 CFR 15.615 (a) through (e) which establish the Access BPL database. (OMB Control No. 3060-1087.) All information on Access BPL systems as required by 47 CFR 15.615(a) must be entered into the database and be available to the public by November 19, 2005. BPL operators should contact UTC at admin@utc.org to receive a user name and password for administrative access. This information is required for BPL operators to enter the necessary information regarding their BPL systems into the database.

5. Public Access to the UTC BPL database. The public may access the UTC BPL database via the Internet at http://www.bpldatabase.org. This access is open and requires no login information. Detailed instructions are provided on the Web site to guide users in entering the requested information. Users experiencing problems in accessing the database via the Internet may contact the UTC database administrator at admin@utc.org, or (202) 872-0030.

Federal Communications Commission.
Bruce Romano,
Associate Chief (Legal), Office of Engineering and Technology.

[FR Doc. 05-20992 Filed 10-18-05; 8:45 am]

BILLING CODE 6712-01-P